DEPARTMENT OF TRANSPORTATION

Federal Aviation Administration

14 CFR Part 139

[Docket No.: FAA-2010-0997; Notice No. 16-04]

RIN 2120-AJ38

Safety Management System for Certificated Airports

AGENCY: Federal Aviation Administration (FAA), DOT.

ACTION: Supplemental notice of proposed rulemaking (SNPRM); reopening of comment period.

SUMMARY: This action reopens the comment period for the Safety Management System for Certificated Airports SNPRM published July 14, 2016. In the SNPRM, the FAA proposed to amend certain requirements included in the notice of proposed rulemaking published on October 7, 2010. Most notably, the FAA revised the proposed applicability of the rule so that a Safety Management System (SMS) is only required for a certificated airport classified as a small, medium, or large hub airport in the National Plan of Integrated Airport Systems; serving international air traffic; or having more than 100,000 total annual operations. The FAA also proposed changes that would extend the implementation period from 18 to 24 months; require submission of an implementation plan within 12 months instead of 6 months of the effective date of the final rule; modify the training requirements; ensure consistency among various FAA SMS initiatives, and reduce the implementation burden.

DATES: The comment period for the SNPRM published on July 14, 2016 (81 FR 45872) closed on September 12, 2016, and is reopened until September 23, 2021.

ADDRESSES: You may send comments identified by docket number FAA-2010-0997 using any of the following methods:

• Federal eRulemaking Portal: Go to http://www.regulations.gov and follow the online instructions for sending your comments electronically.

• Mail: Send comments to Docket Operations, M-30; U.S. Department of Transportation (DOT), 1200 New Jersey Avenue SE, Room W12-140, West Building Ground Floor, Washington, DC 20590-0001.

• Hand Delivery or Courier: Take comments to Docket Operations in Room W12-140 of the West Building Ground Floor at 1200 New Jersey Avenue SE, Washington, DC, between 9 a.m. and 5 p.m., Monday through Friday, except Federal holidays.

• Fax: Fax comments to Docket Operations at (202) 493-2251.

Privacy: In accordance with 5 U.S.C. 553(c), DOT solicits comments from the public to better inform its rulemaking process. DOT posts these comments, without edit, including any personal information the commenter provides, to www.regulations.gov, as described in the system of records notice (DOT/ALL-14 FDMS), which you can review at http://www.dot.gov/privacy.

Docket: Background documents or comments received may be read at http://www.regulations.gov at any time. Follow the online instructions for accessing the docket or go to the Docket Operations in Room W12-140 of the West Building Ground Floor at 1200 New Jersey Avenue SE, Washington, DC, between 9 a.m. and 5 p.m., Monday through Friday, except Federal holidays.

FOR FURTHER INFORMATION CONTACT: Brent Hart, ARM-200, Office of Rulemaking, Federal Aviation Administration, 800 Independence Avenue SW, Washington, DC 20591, telephone (202) 267-9677;email brent.hart@faa.gov.

SUPPLEMENTARY INFORMATION: See the “Additional Information” section for information on how to comment on this proposal and how the FAA will handle comments received. The “Additional Information” section also contains related information about the docket, privacy, the handling of proprietary or confidential business information. In addition, there is information on obtaining copies of related rulemaking documents.

Background

On October 7, 2010, the FAA published in the Federal Register a notice of proposed rulemaking (NPRM) titled “Safety Management System for Certificated Airports” (75 FR 62008). The NPRM proposed to require all part 139 certificate holders to establish a Safety Management System (SMS) for the entire airfield environment, including movement and non-movement areas, to improve safety at airports hosting air carrier operations.

While reviewing the comments on the NPRM, the FAA reevaluated whether requiring an SMS at all part 139 certificated airports was appropriate. As part of the re-evaluation, the FAA assessed various combinations of criteria that could trigger the requirement to implement SMS and to maximize safety benefits in the least burdensome manner.

On July 14, 2016, the FAA published an SNPRM titled “Safety Management System for Certificated Airports” (81 FR 45872). The SNPRM revised the proposed triggers for implementing SMS and proposed the FAA's preferred alternative, which is to require SMS at airports that (a) are large, medium, or small hubs; (b) serve international air traffic; or (c) have more than 100,000 total annual operations. The FAA also revised the proposed implementation schedule to extend the implementation period from 18 months to 24 months and require the submission of an Implementation Plan within 12 months (instead of 6 months) from the effective date of the rule. The SNPRM clarified the training requirements and revised certain definitions to ensure consistency—when deemed appropriate—among various FAA SMS initiatives.

The SNPRM comment period closed on September 12, 2016. The FAA received 38 comments on the SNPRM. Although most commenters were certificate holders, some were air carriers, consultants, academia, and individuals. Additionally, the following industry associations submitted comments: Airlines for America, Airports Council International-North America, American Association of Airport Executives, Helicopter Association International, and the National Business Aviation Association. The comments primarily addressed the following areas of the proposal:

• Applicability;

• Implementation;

• Non-movement area;

• Data protection;

• Safety reporting and interoperability;

• Training and orientation;

• Accountable executive;

• Definitions; and

• Miscellaneous topics.

Reopening of Comment Period

As a result of the time that has passed since the close of the SNPRM comment period, the FAA has determined that it is appropriate to solicit comments on any new information or data that has come to light since the close of the comment period. Accordingly, the FAA is reopening the comment period for the SNPRM published at 81 FR 45872, for 30 days, until September 23, 2021 for the aforementioned limited purpose.

The most helpful comments provide only data and information that was not previously submitted to the rulemaking docket, reference a specific portion of the proposal, explain the reason for any recommended change, and include supporting data. To ensure the docket does not contain duplicate comments, commenters should send only one copy of written comments, or if comments are filed electronically, commenters should submit only one time.

Additional Information

Except for Confidential Business Information (CBI) as described in the following paragraph, and other information as described in 14 CFR 11.35, the FAA will file in the docket all comments it receives, as well as a report summarizing each substantive public contact with FAA personnel concerning this proposed rulemaking. Before acting on this proposal, the FAA will consider all comments it receives on or before the closing date for comments. The FAA will consider comments filed after the comment period has closed if it is possible to do so without incurring expense or delay. The agency may change this proposal in light of the comments it receives.

Confidential Business Information (CBI) is commercial or financial information that is both customarily and actually treated as private by its owner. Under the Freedom of Information Act (FOIA) (5 U.S.C. 552), CBI is exempt from public disclosure. If your comments responsive to this SNPRM contain commercial or financial information that is customarily treated as private, that you actually treat as private, and that is relevant or responsive to this SNPRM, it is important that you clearly designate the submitted comments as CBI. Please mark each page of your submission containing CBI as “PROPIN.” The FAA will treat such marked submissions as confidential under the FOIA, and they will not be placed in the public docket of this SNPRM. Submissions containing CBI should be sent to James Schroeder, Airports Safety & Operations Division, AAS-300, Office of Airports, Federal Aviation Administration, 800 Independence Avenue SW, Washington, DC 20591-0001; email James.Schroeder@faa.gov. Any commentary that the FAA receives which is not specifically designated as CBI will be placed in the public docket for this rulemaking.

Availability of Rulemaking Documents

An electronic copy of rulemaking documents may be obtained from the internet by—

1. Searching the Federal eRulemaking Portal at www.regulations.gov;

2. Visiting the FAA's Regulations and Policies web page at www.faa.gov/regulations_policies; or

3. Accessing the Government Publishing Office's web page at www.GovInfo.gov.

Copies may also be obtained by sending a request to the Federal Aviation Administration, Office of Rulemaking, ARM-1, 800 Independence Avenue SW, Washington, DC 20591, or by calling (202) 267-9680. Commenters must identify the docket or notice number of this rulemaking.

All documents the FAA considered in developing this proposed rule, including economic analyses and technical reports, may be accessed from the internet through the Federal eRulemaking Portal referenced in item (1) above.

Issued under authority provided by 49 U.S.C. 106(f), 44701(a), and 44703 in Washington, DC, on August 13, 2021.
Timothy R. Adams,
Acting Executive Director, Office of Rulemaking.

[FR Doc. 2021-17847 Filed 8-23-21; 8:45 am]

BILLING CODE 4910-13-P